DEPARTMENT OF HEALTH AND HUMAN SERVICES

Food and Drug Administration

Medical Devices Dispute Resolution Panel of the Medical Devices Advisory Committee; Amendment of Notice

AGENCY: Food and Drug Administration, HHS.

ACTION: Notice.

The Food and Drug Administration (FDA) is announcing an amendment to the notice of meeting of the Medical Devices Dispute Resolution Panel of the Medical Devices Advisory Committee. This meeting was originally announced in the Federal Register of November 24, 2006 (71 FR 67879). The amendment is being made to reflect a change in the Date and Time portion of the document, specifically, a change in the start time of the meeting. There are no other changes.

FOR FURTHER INFORMATION CONTACT: Nancy Collazo-Braier, Office of the Center Director (HFZ-1), Food and Drug Administration, 9200 Corporate Blvd., Rockville, MD 20850, 240-276-3959, nancy.braier@fda.hhs.gov, or FDA Advisory Committee Information Line, 1-800-741-8138 (301-443-0572 in the Washington, DC area), code 3014510232. Please call the Information Line for up-to-date information on this meeting.

SUPPLEMENTARY INFORMATION: In the Federal Register of November 24, 2006, FDA announced that a meeting of the Medical Devices Dispute Resolution Panel of the Medical Devices Advisory Committee would be held on December 15, 2006. On page 67879, in the second column, the Date and Time portion of the document is amended to read as follows:

Date and Time: The meeting will be held on December 15, 2006, from 8 a.m. to 5 p.m.

This notice is issued under the Federal Advisory Committee Act (5 U.S.C. app. 2) and 21 CFR part 14, relating to the advisory committees.

Dated: December 5, 2006.
Randall W. Lutter,
Associate Commissioner for Policy and Planning.

[FR Doc. E6-21020 Filed 12-11-06; 8:45 am]

BILLING CODE 4160-01-S